DEPARTMENT OF ENERGY

Federal Energy Regulatory Commission

[Project No. 11834-072]

Brookfield White Pine Hydro, LLC; Notice of Application for Amendment of License, Soliciting Comments, Motions To Intervene, and Protests

Take notice that the following hydroelectric application has been filed with the Commission and is available for public inspection:

a. Type of Proceeding: Application for temporary variance of reservoir elevation.

b. Project No.: 11834-072.

c. Date Filed: January 6, 2020.

d. Licensee: Brookfield White Pine Hydro, LLC.

e. Name of Project: Upper and Middle Dams Storage Project.

f. Location: The project is located on the Rapid River in Oxford and Franklin counties, Maine.

g. Filed Pursuant to: Federal Power Act, 16 U.S.C. 791a-825r.

h. Licensee Contact: Mr. Kyle Murphy, Brookfield Renewable, 150 Main Street, Lewiston, ME, (207) 458-5861, Kyle.murphy@brookfieldrenewable.com.

i. FERC Contact: Ms. Rebecca Martin, (202) 502-6012, Rebecca.martin@ferc.gov.

j. Deadline for filing comments, interventions, and protests is February 13, 2020. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-11834-072.

k. Description of Request: The applicant requests a temporary variance from article 402 of its license to operate the reservoir elevation below its normal winter minimum elevation of 1437 feet mean sea level (msl), to allow for structural repairs to the Middle Dam. The licensee would maintain a minimum elevation of 1436.0 feet msl from March 1 through April 15 beginning in 2020 and during the same time period through 2024. The drawdown would allow for the repairs to be completed in the dry and during the reduced recreation season. The licensee would hold back additional water at the Upper Dam Development, located upstream of the Middle Dam, during the construction years to assist in the refill of the Middle Dam Reservoir, Richardson Lake.

l. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: January 14, 2020.
Kimberly D. Bose,
Secretary.

[FR Doc. 2020-00923 Filed 1-21-20; 8:45 am]

BILLING CODE 6717-01-P